DEPARTMENT OF DEFENSE

Office of the Secretary

Threat Reduction Advisory Committee; Notice of Closed Federal Advisory Committee Meeting

AGENCY: Office of the Under Secretary of Defense (Acquisition, Technology, and Logistics), Department of Defense (DoD).

ACTION: Federal Advisory Committee Meeting notice.

SUMMARY: The Department of Defense announces the following closed Federal Advisory Committee meeting of the Threat Reduction Advisory Committee (TRAC).

DATES: Thursday, May 4, 2017, from 8:00 a.m. to 4:30 p.m. and Friday, May 5, 2017, from 8:00 a.m. to 3:00 p.m.

ADDRESSES: Defense Threat Reduction Agency, 3074 Centreville Road, Herndon, VA 20171 on May 4, 2017 and the morning of May 5, 2017, and the Pentagon, Washington, DC on the afternoon of May 5, 2017.

FOR FURTHER INFORMATION CONTACT: Mr. William Hostyn, DoD, Defense Threat Reduction Agency (DTRA) J2/5, 8725 John J. Kingman Road, MS 6201, Fort Belvoir, VA 22060-6201. Email: william.p.hostyn.civ@mail.mil. Phone: (703) 767-4453. Fax: (703) 767-4206.

SUPPLEMENTARY INFORMATION:

Purpose of Meeting: This meeting is being held under the provisions of the Federal Advisory Committee Act of 1972 (FACA) (5 U.S.C., Appendix., as amended), the Government in the Sunshine Act of 1976 (5 U.S.C. 552b, as amended), and 41 CFR 102-3.150. The TRAC will obtain, review, and evaluate classified information related to the TRAC's mission to provide advice on technology security, countering weapons of mass destruction (CWMD), counterterrorism, and counter-proliferation.

Agenda: All discussions for the two-day meeting will be classified at the SECRET level or higher. On May 4, 2017, Alternate Designated Federal Officer Stephen Polchek will make his remarks, and then the TRAC Chair, Ambassador Ronald Lehman, will open the meeting with comments that outline the topics to be covered in the two-day meeting. Following the opening remarks, there will be a classified intelligence briefing covering CWMD issues related to North Korea, Russia and emerging chemical threats from state and non-state actors. The TRAC will receive a classified briefing from United States Special Operations Command on reachback and CWMD capabilities. The TRAC will hold a working lunch to hear from the Acting Assistant Secretary of Defense for Nuclear, Chemical, and Biological (NCB) Defense Programs, Dr. Arthur Hopkins on updates from the NCB Program and the implications for DoD's CWMD mission. The TRAC will hold classified discussions regarding feedback received on the Russia study from senior DoD leadership. The TRAC will hear from Honorable Benkert and Dr. Choi on the status of the China study. Next, the TRAC will discuss new studies proposed by the TRAC's sponsor, the Under Secretary of Defense for Acquisition, Technology and Logistics (AT&L) including the Unified Command Plan CWMD mission change.

The TRAC will continue the meeting on May 5, 2017. The group will first review observations and discuss next steps for the TRAC in calendar years 2017-2018 based on the sponsor's guidance and direction. The TRAC will then receive a classified brief from COL McAlpine, Office of the Deputy Assistant Secretary of Defense for Nuclear Matters, on the nuclear posture review and the implications for the TRAC's work on Russia, China and North Korea. The TRAC will hear from Dr. Hassell, Deputy Assistant Secretary of Defense for Chemical and Biological Defense Program, on the chemical and biological program. The TRAC will then hear from USSOCOM on the implementation of the CWMD mission. This discussion will continue through lunch. The TRAC members will then transition to the Pentagon where they will provide Mr. MacStravic, Performing the Duties of Under Secretary of Defense, AT&L with a brief on the North Korea, and China studies from the previous day's meeting. At the conclusion of the discussion, the Chair will adjourn the 40th Plenary.

Meeting Accessibility: Pursuant to section 10(d) of the FACA, 5 U.S.C. 552b(c), and 41 CFR 102-3.155, the DoD has determined that the meeting shall be closed to the public. The Under Secretary of Defense for Acquisition, Technology, and Logistics, in consultation with the DoD FACA Attorney, has determined in writing that all sessions of this meeting are required to be closed to the public because the discussions will contain classified information and matters covered by 5 U.S.C. 552b(c)(1). Such classified matters are inextricably intertwined with the unclassified material and cannot reasonably be segregated into separate discussions without disclosing secret-level or higher material.

Advisory Committee's Designated Federal Officer or Point of Contact: Mr. William Hostyn, DoD, Defense Threat Reduction Agency, J2/5, 8725 John J. Kingman Road, MS 6201, Fort Belvoir, VA 22060-6201. Email: william.p.hostyn.civ@mail.mil. Phone: (703) 767-4453. Fax: (703) 767-4206.

Written Statements: Pursuant to section 10(a)(3) of FACA and 41 CFR 102-3.105(j) and 102-3.140, the public or interested organizations may submit written statements to the membership of the TRAC at any time or in response to the stated agenda of a planned meeting. Written statements should be submitted to the TRAC's Designated Federal Officer. The Designated Federal Officer's contact information is listed in this notice, or it can be obtained from the General Services Administration's FACA Database: http://www.facadatabase.gov/committee/committee.aspx?cid=1663&aid=41. Written statements that do not pertain to a scheduled meeting of the TRAC may be submitted at any time. However, if individual comments pertain to a specific topic being discussed at a planned meeting, then these statements must be submitted no later than five business days prior to the meeting in question. The Designated Federal Officer will review all submitted written statements and provide copies to all TRAC members.

Dated: April 11, 2017.
Aaron Siegel,
Alternate OSD Federal Register Liaison Officer, Department of Defense.

[FR Doc. 2017-07626 Filed 4-14-17; 8:45 am]

BILLING CODE 5001-06-P